DEPARTMENT OF HOUSING AND URBAN DEVELOPMENT

[Docket No. FR-5130-N-09]

Privacy Act; Proposed New Systems of Records; Grants Interface Management System (GIMS/P017)

AGENCY: Office of the Chief Information Officer, HUD.

ACTION: Establish a new Privacy Act system of records.

SUMMARY: HUD proposes to establish a new record system to add to its inventory of systems of records subject to the Privacy Act of 1974 (5 U.S.C. 552a), as amended. The proposed new system of records is the Grants Interface Management System (GIMS/P017), HUD/ADM-08. HUD's Departmental Grants Management and Oversight Office will utilize the GIM system to manage the transmission of electronic grant applications received from the http://www.Grants.gov portal, which is the central storehouse for information on federal government grant programs. HUD will also utilize this new system as the repository for the electronic applications received.

DATES: Effective Date: This action shall be effective without further notice on September 4, 2007 unless comments are received during or before this period that would result in a contrary determination.

Comments Due Date: September 4, 2007.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, 451 Seventh Street, SW., Room 4178, Washington, DC 20410, telephone number (202) 708-2374 or the System Manager, Loyd Lamois, Supervisory Program Analyst, 451 Seventh Street, SW., Room 3156, Washington, DC 20410, telephone number (202) 708-0667. (These are not a toll-free numbers.) Telecommunication device for hearing and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a.

Dated: July 27, 2007.
Lisa Schlosser,
Chief Information Officer.

\

HUD/ADM-08

System Name:

Grants Interface Management System (GIMS).

System Location:

HUD Headquarters, Charleston, West Virginia.

Categories of Individuals Covered by the System:

Electronic applicants to HUD competitive (discretionary) grant programs.

Categories of Records in the System:

Electronic grant applications which typically include statements of qualifications, which may include resumes, program budgets and work plans, evaluation plans, and supporting documents such as proof of local support. Resumes may include name, home address, home telephone number, personal email address.

Authority for Maintenance of the System:

Records are authorized by regulations governing administration of grants and cooperative agreements (24 CFR, Part 84 or 85), and the HUD Reform Act of 1989 Public Law 101-235 (24 CFR Part 4) and scheduled per the NARA requirements for records disposition at 36 CFR Part 1228.

Purposes:

The purpose of this system is to receive grant applications from the Grants.gov portal. Records are maintained in compliance with the requirements of the HUD Reform Act of 1989, Public Law 101-235 (24 CFR Part 4) and scheduled per the NARA requirements for records disposition at 36 CFR Part 1228.

Routine Uses of Records Maintained in the System, Including Categories of Users and the Purposes of Such Uses:

In addition to those disclosures generally permitted under 5 U.S.C. 552a(b) of the Privacy Act, other routine uses are as follows: Routine uses include review of applications. Persons with access at various points in the process include reviewers and program managers.

Policies and Practices for Storing, Retrieving, Accessing, Retaining, and Disposing of Records in the System:

Under this section the following subsections must be listed:

Storage:

Paper applications are maintained in locked file cabinets and access is granted to personnel who service the records. Electronic data is maintained in the GIMS database.

Retrievability:

Applications are indexed by application tracking number, award tracking number, applicant organization name.

Safeguards:

Paper Records are typically stored in locked cabinets and limited to those personnel who service the records. System access is granted by program administrators and by user ID and password.

Retention and Disposal:

Records are retained per the requirements of the HUD Reform Act of 1989 Pub. Law 101-235 (24 CFR Part 4), and scheduled under the NARA requirements for records disposition at 36 CFR Part 1228.

System Manager(s) and Address:

Loyd Lamois, Supervisory Program Analyst, Office of Departmental Grants Managements and Oversight, Department of Housing and Urban Development, 451 Seventh Street SW., Room 3156, Washington, DC 20410.

Notification Procedures:

“For information, assistance, or inquiry about the existence of records, contact the Privacy Act Officer at the Department of Housing and Urban Development, 451 Seventh Street SW., Room 4178, Washington, DC 20410. Written requests must include the full name, document with photo (driver's license, etc.), date of birth, current address, and telephone number of the individual making the request.

Contesting Record Procedures:

Procedures for the amendment or correction of records, and procedures for applicants who want to appeal initial agency determinations appear in 24 CFR part 16.

If additional information is needed, contact:

(i) In relation to contesting contents of records, the Privacy Act Officer at HUD, 451 Seventh Street, SW., Room 4178, Washington, DC 20410; and,

(ii) In relation to appeals of initial denials, HUD, Departmental Privacy Appeals Officer, Office of General Counsel, 451 Seventh Street, SW., Washington, DC 20410.

Record Source Categories:

Information is submitted by Authorized Organizational Representatives registered at Grants.gov and authorized by applicant organizations.

Exemptions from Certain Provisions of the Act:

“None.”

[FR Doc. E7-14942 Filed 8-1-07; 8:45 am]

BILLING CODE 4210-67-P